ENVIRONMENTAL PROTECTION AGENCY

[OPP-42079; FRL-6777-1]

West Virginia State Plan for Certification of Applicators of Restricted Use Pesticides; Notice of Availability

AGENCY: Environmental Protection Agency (EPA).

ACTION: Notice of intent.

SUMMARY: The State of West Virginia has submitted to EPA several statutory, regulatory, and programmatic amendments to its State Plan for Certification and Training of Applicators of Restricted Use Pesticides. The proposed amendments establish new requirements for the certification and recertification of pesticide applicators, and issuance of pesticide business licences, categorizes private applicators, raises competency standards and time intervals between re-examination attempts for initial certification, requires training for registration of non-certified employees, codifies commercial categories and subcategories, and updates citations concerning civil penalties to include private applicators. The plan also contains a speciality subcategory for predator control. Persons certified in this subcategory will not only be required to demonstrate a practical knowledge of predator control, but also must demonstrate a knowledge of the specific label requirements and use restrictions of the 1080 Livestock Protection Collar and M-44 Device. Notice is hereby given of the intention of the Regional Administrator, Region III to approve the revised Plan for the Certification of Applicators of Restricted Use Pesticides. EPA is soliciting comments on the proposed amendments.

DATES: Comments, identified by docket control number OPP-42079, must be received on or before October 17, 2001.

ADDRESSES: Comments may be submitted by mail, electronically, or in person. Please follow the detailed instructions for each method as provided in Unit I. of the SUPPLEMENTARY INFORMATION. To ensure proper receipt by EPA, it is imperative that you identify docket control number OPP-42079 in the subject line on the first page of your response.

FOR FURTHER INFORMATION CONTACT: Magda Rodriguez-Hunt, Waste and Chemicals Management Division, 3WC32, 1650 Arch Street, Philadelphia, PA 19103-2099; telephone number: (215) 814-2128; e-mail address: rodriguez-hunt.magda@epa.gov.

SUPPLEMENTARY INFORMATION:

I. General Information

A. Does this Action Apply to Me?

This action is directed to the public in general. This action may, however, be of interest to those involved in agriculture and anyone involved with the distribution and application of pesticides for agricultural purposes. Others involved with pesticides in a non-agricultural setting may also be affected. In addition, it may be of interest to others, such as, those persons who are or may be required to conduct testing of chemical substances under the Federal Food, Drug, and Cosmetic Act (FFDCA), or the Federal Insecticide, Fungicide, and Rodenticide Act (FIFRA). Since other entities may also be interested, the Agency has not attempted to describe all the specific entities that may be affected by this action. If you have any questions regarding the applicability of this action to a particular entity, consult the person listed under FOR FURTHER INFORMATION CONTACT.

B. How Can I Get Copies of the Amended State Plan, Other Related Documents, and Additional Information?

To obtain copies of the amended West Virginia Certification Plan, other related documents, or additional information contact:

1. Magda Rodriguez-Hunt at the address listed under FOR FURTHER INFORMATION CONTACT.

2. Robert Frame, Pesticide Regulatory Programs, West Virginia Department of Agriculture, 1900 Kanawha Boulevard, East, Charleston, WV 25305-0190; telephone number: (304) 558-2209; e-mail address: rframe@ag.state.wv.us.

3. Jeanne Heying, Office of Pesticide Programs, Field and External Affairs Division (7506C), Environmental Protection Agency, 1200 Pennsylvania Ave., NW., 20460; telephone number: (703) 308-3240; e-mail address: heying.jeanne@epa.gov.

C. How and to Whom Do I Submit Comments?

You may submit comments through the mail, in person, or electronically to Magda Rodriguez-Hunt at the address listed under FOR FURTHER INFORMATION CONTACT. To ensure proper receipt by EPA, it is imperative that you identify docket control number OPP-42079 in the subject line on the first page of your response. Electronic comments can be submitted by e-mail or you can submit a computer disk. When submitting comments electronically do not submit any information that you consider to be confidential business information (CBI). Avoid the use of special characters and any form of encryption. Electronic submissions will be accepted in WordPerfect 6.1/8.0 or ASCII file format. All comments in electronic form must be identified by docket control number OPP-42079.

D. How Should I Handle CBI that I Want to Submit to the Agency?

Do not submit any information electronically that you consider to be CBI. You may claim information that you submit to EPA in response to this document as CBI by marking any part or all of that information as CBI. Information so marked will not be disclosed except in accordance with procedures set forth in 40 CFR part 2. In addition to one complete version of the comment that includes any information claimed as CBI, a copy of the comment that does not contain the information claimed as CBI must be submitted for inclusion in the public version of the official record. Information not marked confidential will be included in the public version of the official record without prior notice. If you have any questions about CBI or the procedures for claiming CBI, please consult the person identified under FOR FURTHER INFORMATION CONTACT.

E. What Should I Consider as I Prepare My Comments for EPA?

You may find the following suggestions helpful for preparing your comments:

1. Explain your views as clearly as possible.

2. Describe any assumptions that you used.

3. Provide copies of any technical information and/or data you used that support your views.

4. If you estimate potential burden or costs, explain how you arrived at the estimate that you provide.

5. Provide specific examples to illustrate your concerns.

6. Make sure to submit your comments by the deadline in this notice.

7. To ensure proper receipt by EPA, be sure to identify the docket control number assigned to this action in the subject line on the first page of your response. You may also provide the name, date, and Federal Register citation.

II. What Action is the Agency Taking?

EPA has reviewed the revised West Virginia Certification Plan and finds it in compliance with FIFRA and 40 CFR part 171 and is announcing its intention to approve the amended plan and seeks public comment.

List of Subjects

Environmental protection, Education, Pests and pesticides.

Dated: August 31, 2001.
Donald S. Welsh,
Regional Administrator, Region III.

[FR Doc. 01-23089 Filed 9-14-01; 8:45 am]

BILLING CODE 6560-50-S